DEPARTMENT OF HEALTH AND HUMAN SERVICES

Centers for Disease Control and Prevention

Meetings of the Advisory Committee for Injury Prevention and Control (ACIPC), and Its Subcommittee, the Science and Program Review Subcommittee (SPRS or the Subcommittee)

Correction: This notice was published in the Federal Register on April 2, 2007, Volume 72, Number 62, page 15698. Part of the address for the ACIPC full meeting was omitted. The complete address is Koger Center, Vanderbilt Building, Room 1004 A/B, 2939 Flowers Road, South, Atlanta, GA 30341.

Contact Person for More Information: Ms. Amy Harris, Executive Secretary, ACIPC, NCIPC, CDC, 4770 Buford Highway NE, M/S K61, Atlanta, Georgia 30341-3724, telephone (770) 488-4936.

The Director, Management Analysis and Services Office, has been delegated the authority to sign Federal Register notices pertaining to announcements of meetings and other committee management activities, for both CDC and the Agency for Toxic Substances and Disease Registry.

Dated: April 4, 2007.
Elaine L. Baker,
Acting Director, Management Analysis and Services Office, Centers for Disease Control and Prevention.

[FR Doc. 07-1817 Filed 4-10-07; 8:45 am]

BILLING CODE 4163-18-M